DEPARTMENT OF COMMERCE

International Trade Administration

[C-570-971]

Multilayered Wood Flooring From the People's Republic of China: Postponement of Preliminary Determination in the Countervailing Duty Investigation

AGENCY: Import Administration, International Trade Administration, Department of Commerce.

DATES: Effective Date: January 3, 2011.

FOR FURTHER INFORMATION CONTACT: Seth Isenberg and Joshua Morris, AD/CVD Operations, Import Administration, International Trade Administration, U.S. Department of Commerce, 14th Street and Constitution Avenue, NW., Washington, DC 20230; telephone: (202) 482-0588 and (202) 482-1779, respectively.

Background

On November 10, 2010, the Department of Commerce (“the Department”) initiated an investigation of multilayered wood flooring from the People's Republic of China (“PRC”). See Multilayered Wood Flooring From the People's Republic of China: Initiation of Countervailing Duty Investigation, 75 FR 70719 (November 18, 2010) (“Initiation Notice”). Currently, the preliminary determination is due no later than January 14, 2011.

Postponement of Due Date for Preliminary Determination

Under section 703(c)(1)(B) of the Tariff Act of 1930, as amended (the “Act”), the Department may extend the period for reaching a preliminary determination in a countervailing duty investigation until no later than the 130th day after the date on which the administering authority initiates an investigation, if the Department determines that the parties are cooperating and additional time is necessary to make the preliminary determination because the case is extraordinarily complicated. The Department solicited and received comments from parties, and concludes that concerned parties are cooperating. The Department further finds that additional time is required because the number of alleged manufacturers, producers, and exporters listed in the Petition ¹ has complicated the Department's selection of the firms to individually investigate. See section 703(c)(1)(B)(i)(IV) of the Act.

¹ See Petition for the Imposition of Antidumping and Countervailing Duties: Multilayered Wood Flooring from the People's Republic of China, dated October 21, 2010 (“Petition”).

Moreover, since the Initiation Notice, the Department has concluded it cannot use U.S. Customs and Border Protection data for respondent selection. Rather, it is appropriate to solicit information about the quantity and value of subject merchandise sales from the firms named in the Petition. Therefore, respondent selection is extraordinarily complicated due to the large number of companies from which the Department is gathering quantity and value information. Thus, the Department is extending the due date for the preliminary determination to no later than 130 days after the day on which the investigation was initiated (i.e., March 20, 2011). However, March 20, 2011, falls on a Sunday, and it is the Department's long-standing practice to issue a determination the next business day when the statutory deadline falls on a weekend, Federal holiday, or any other day when the Department is closed. See Notice of Clarification: Application of “Next Business Day” Rule for Administrative Determination Deadlines Pursuant to the Tariff Act of 1930, As Amended, 70 FR 24533 (May 10, 2005). Accordingly, the deadline for completion of the preliminary determination is now no later than Monday, March 21, 2011.

This notice is issued and published pursuant to section 703(c)(2) of the Act and 19 CFR 351.205(f).

Dated: December 27, 2010.
Christian Marsh,
Acting Deputy Assistant Secretary for Import Administration.

[FR Doc. 2010-33133 Filed 12-30-10; 8:45 am]

BILLING CODE 3510-DS-P